DEPARTMENT OF HOMELAND SECURITY

Federal Emergency Management Agency

[Docket ID: FEMA-2022-0049; OMB No. 1660-0006]

Agency Information Collection Activities: Submission for OMB Review, Comment Request; National Flood Insurance Program Policy Forms

AGENCY: Federal Emergency Management Agency, Department of Homeland Security.

ACTION: 30 Day notice of revision and request for comments.

SUMMARY: The Federal Emergency Management Agency (FEMA) will submit the information collection abstracted below to the Office of Management and Budget for review and clearance in accordance with the requirements of the Paperwork Reduction Act of 1995. The submission seeks comments concerning information collected for the selling and servicing of National Flood Insurance Program (NFIP) policies by FEMA's direct servicing agent, NFIP Direct.

DATES: Comments must be submitted on or before March 24, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address: FEMA-Information-Collections-Management@fema.dhs.gov or Joycelyn Collins, Underwriting Branch Program Analyst, Federal Insurance Directorate, at 202-701-3383 or Joycelyn.Collins@fema.dhs.gov.

SUPPLEMENTARY INFORMATION: The NFIP is authorized by Public Law 90-448 (1968) and expanded by Public Law 93-234 (1973). The National Flood Insurance Act of 1968 requires FEMA to provide flood insurance at full actuarial rates, reflecting the complete flood risk to structures built or substantially improved, on or after the effective date for the initial Flood Insurance Rate Map for the community, so that the risks associated with buildings in flood-prone areas are borne by those located in such areas and not by taxpayers at large. In accordance with Public Law 93-234, the purchase of flood insurance is mandatory when Federal or federally related financial assistance is being provided for acquisition or construction of buildings located, or to be located, within FEMA-identified special flood hazard areas of communities that participate in the NFIP.

FEMA also proposes changes to this information collection to implement a revised risk rating methodology that will apply to all policies issued or renewed on or after October 1, 2021. This revised methodology will require FEMA to collect new information necessary to sell and service flood insurance policies. However, the revised methodology is not expected to increase the overall information collection burden on the public due to the use of data from sources other than policyholders. As a result of this revised methodology, FEMA proposes to modify FEMA Forms FF-206-FY-21-117 (formerly 086-0-1), FF-206-FY-21-118 (formerly 086-0-2), and FF-206-FY-21-119 (formerly 086-0-3).

During the transition to the revised rating methodology, FEMA still needed to maintain the existing forms in this information collection. As a result, FEMA added FEMA Forms 086-0-1T, 086-0-2T, 086-0-3T, and 086-0-5T to this information collection. Now that the transition to the revised risk rating methodology has been completed, effective April 1, 2022, FEMA has discontinued the use of these forms and is removing them from this information collection.

This proposed information collection previously published in the Federal Register on December 7, 2022, at 87 FR 75060 with a 60 day public comment period. One complimentary comment was received and FEMA thanks the commentor. This notice also corrects a minor typographical error in the previously published notice, which listed the number of respondents as 372,522 when the correct number of respondents is 372,422. The purpose of this notice is to notify the public that FEMA will submit the information collection abstracted below to the Office of Management and Budget for review and clearance.

Collection of Information

Title: National Flood Insurance Program Policy Forms.

Type of Information Collection: Extension, with change, of a currently approved information collection.

OMB Number: 1660-0006.

FEMA Forms: FEMA Form FF-206-FY-21-117 (formerly 086-0-1), Flood Insurance Application; FEMA Form FF-206-FY-21-118 (formerly 086-0-2), Flood Insurance Cancellation/Nullification Request Form; and FEMA Form FF-206-FY-21-119 (formerly 086-0-3), Flood Insurance General Change Endorsement.

Abstract: To provide for the availability of policies for flood insurance, policies are marketed and administered through the facilities of licensed insurance agents or brokers in the various States. Applications, general change requests, and cancellations from agents or brokers are forwarded to a direct servicing agent designated as fiscal agent by the Federal Insurance and Mitigation Administration (FIMA), referred to as NFIP Direct. Upon receipt and examination of the application, general change request, cancellation, and required premium, the servicing company issues or updates the appropriate Federal flood insurance policy.

Affected Public: Individuals or households; State, local or Tribal government; business or other for profit; not-for-profit institutions; and farms.

Number of Respondents: 372,422.

Number of Responses: 372,422.

Estimated Total Annual Burden Hours: 51,628.

Estimated Total Annual Respondent Cost: $2,096,612.

Estimated Respondents' Operation and Maintenance Costs: $0.

Estimated Respondents' Capital and Start-Up Costs: $0.

Estimated Total Annual Cost to the Federal Government: $9,357,010.

Comments

Comments may be submitted as indicated in the ADDRESSES caption above. Comments are solicited to: (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-03607 Filed 2-21-23; 8:45 am]

BILLING CODE 9111-52-P